DEPARTMENT OF HOMELAND SECURITY

Coast Guard

46 CFR Parts 401 and 404

[USCG-2002-11288]

RIN 2115-AG30

Rates for Pilotage on the Great Lakes

AGENCY: Coast Guard, DHS.

ACTION: Correction to interim rule.

SUMMARY: This document contains corrections to the interim rule [USCG-2002-11288], which was published in the Federal Register on December 12, 2003 (68 FR 69564). The interim rule provides a partial rate adjustment for pilotage on the Great Lakes. A review of this interim rule after publication identified an omission of a figure in a table and two erroneous tables.

DATES: Effective on January 6, 2004.

FOR FURTHER INFORMATION CONTACT: For questions on this correction notice, call or e-mail Paul Wasserman, Director, Office of Great Lakes Pilotage (G-MW-1), U.S. Coast Guard, at telephone 202-267-2856, or pwasserman@comdt.uscg.mil.

SUPPLEMENTARY INFORMATION:

Need for Correction

The interim rule, as published, contained an erroneous figure for the total of District One's Projected Return on Investment. This was due to the omission of a number in the column designated as “Total District One.” There were also two incorrect tables placed in Step 6a. The tables should have been “Table B.—District Two—Projected Return on Investment” and Table C.—District Three—Projected Return on Investment.”

Correction of Publication

Accordingly, the publication on December 12, 2003, of the interim rule [USCG-2002-11288], FR Doc. 03-30711, is corrected as follows:

1. On page 69574, in Table A.—District One Step 10, change the figure under Total District One from $10,000 to $100,000.

2. On page 69574, remove “Table B.—District Two—Adjustment Determination” and “Table C.—District Three—Adjustment Determination” and, in their place, add the following tables.

Table B.—District Two—Projected Return on Investment
Step | Area 4 | Area 5 | Total District 2
1 | $705,015 | $1,461,069 | $2,166,084
2 | (365,292) | (446,468) | (811,760)
3 | (477,218) | (930,701) | (1,407,919)
4 | (137,495) | 83,900 | (53,595)
5 | 0 | 0 | 0
6 | (137,495) | 83,900 | (53,595)
7 | 0 | 0 | 0
8 | (137,495) | 83,900 | (53,595)
9 | (137,495) | 83,900 | (53,595)
10 | 89,734 | 140,353 | 230,087
11 | (1.593) | 0.559 | (0.280)

Table C.—District Three—Projected Return on Investment
Step | Area 6 | Area 7 | Area 8 | Total District 1
1 | $1,540,306 | $1,119,819 | $1,030,693 | $3,690,818
2 | (739,550) | (292,739) | (508,441) | (1,540,730)
3 | (1,099,676) | (625,315) | (715,827) | (2,440,818)
4 | (298,920) | 201,765 | (193,575) | (290,730)
5 | 0 | 0 | 0 | 0
6 | (298,920) | 201,765 | (193,575) | (290,730)
7 | 0 | 0 | 0 | 0
8 | (298,920) | 201,765 | (193,575) | (290,730)
9 | (298,920) | 201,765 | (193,575) | (290,730)
10 | 111,668 | 83,752 | 83,752 | 279,172
11 | (2.677) | 2.409 | (2.311) | (1.041)

Dated: December 30, 2003.
Joseph J. Angelo,
Acting Assistant Commandant for Marine Safety, Security and Environmental Protection.

[FR Doc. 04-226 Filed 1-5-04; 8:45 am]

BILLING CODE 4910-15-P